ENVIRONMENTAL PROTECTION AGENCY

[EPA-HQ-OPPT-2006-0929; FRL-8103-1]

Forum on State and Tribal Toxics Action; Notice of Public Meeting

AGENCY: Environmental Protection Agency (EPA).

ACTION: Notice.

SUMMARY: EPA is announcing the meeting of the Forum on State and Tribal Toxics Action (FOSTTA) to enable state and tribal leaders to collaborate with EPA on environmental protection and pollution prevention issues. Representatives and invited guests of the Chemical Information and Management Project (CIMP), the Pollution Prevention (P2) Project, and the Tribal Affairs Project (TAP), components of FOSTTA, will be meeting December 11, 2006. The meeting is being held to provide participants an opportunity to have in-depth discussions on issues concerning the environment and human health. This notice announces the location and times for the meeting and sets forth some tentative agenda topics. EPA invites all interested parties to attend the public meeting.

DATES: The meeting will be held on December 11, 2006, from 8 a.m. to 5 p.m.

Requests to participate in the meeting, identified by docket identification (ID) number EPA-HQ-OPPT-2006-0929 must be received on or before December 7, 2006.

To request accommodation of a disability, please contact the technical contact person listed under FOR FURTHER INFORMATON CONTACT, preferably at least 10 days prior to the meeting, to give EPA as much time as possible to process your request.

ADDRESSES: The meeting will be held at the Radisson Hotel & Suites Austin, 111 E. Cesar Chavez St., Austin, TX 78701, telephone number: (800) 333-3333, fax number: (512) 473-8399.

Requests to participate in the meeting, identified by docket ID number HQ-OPPT-2006-0929, may be submitted to the technical person listed under FOR FURTHER INFORMATION CONTACT.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Pam Buster, Environmental Assistance Division (7408M), Office of Pollution Prevention and Toxics, Environmental Protection Agency, 1200 Pennsylvania Ave., NW., Washington, DC 20460-0001; telephone number: (202) 564-8817; fax number: (202) 564-8813; e-mail address: Buster.Pamela@epa.gov.

SUPPLEMENTARY INFORMATION:

I. General Information

A. Does this Action Apply to Me?

This action is directed to the public in general. This action may, however, be of interest to all parties interested in FOSTTA and in hearing more about the perspectives of the States on EPA programs and the information exchange regarding important issues related to human health and environmental exposure to toxics. Since other entities may also be interested, the Agency has not attempted to describe all the specific entities that may be affected by this action. However, in the interest of time and efficiency, the meetings are structured to provide maximum opportunity for State and EPA participants to discuss items on the predetermined agenda. At the discretion of the chair, an effort will be made to accommodate participation by observers attending the proceedings. If you have any questions regarding the applicability of this action to a particular entity, consult the people listed under FOR FURTHER INFORMATION CONTACT.

B. How Can I Get Copies of this Document and Other Related Information?

1. Docket. EPA has established a docket for this action under docket ID number EPA-HQ-OPPT-2006-0929. Publicly available docket materials are available electronically at http://www.regulations.gov or, if only available in hard copy, at the OPPT Docket in the EPA Docket Center (EPA/DC). The EPA/DC suffered structural damage due to flooding in June 2006. Although the EPA/DC is continuing operations, there will be temporary changes to the EPA/DC during the clean-up. The EPA/DC Public Reading Room, which was temporarily closed due to flooding, has been relocated in the EPA Headquarters Library, Infoterra Room (Room Number 3334) in the EPA West Building, located at 1301 Constitution Ave., NW., Washington, DC. The EPA/DC Public Reading Room is open from 8:30 a.m. to 4:30 p.m., Monday through Friday, excluding legal holidays. The telephone number for the EPA/DC Public Reading Room is (202) 566-1744, and the telephone number for the OPPT Docket Center is (202) 566-0280. Visitors to EPA are required to show photographic identification and sign the EPA visitor log. Visitors to the EPA/DC Public Reading Room will be provided with an EPA/DC badge that must be visible at all times while in the EPA Building and returned to the guard upon departure. In addition, security personnel will escort visitors to and from the new EPA/DC Public Reading Room location. Up-to-date information about the EPA/DC is on the EPA web site at http://www.epa.gov/epahome/dockets.htm.

2. Electronic access. You may access this Federal Register document electronically through the EPA Internet under the “Federal Register” listings at http://www.epa.gov/fedrgstr.

II. Background

The Toxic Substances Control Act (TSCA), 15 U.S.C. 2609 section 10(g), authorizes EPA and other Federal agencies to establish and coordinate a system for exchange among Federal, state, and local authorities of research and development results respecting toxic chemical substances and mixtures, including a system to facilitate and promote the development of standard data format and analysis and consistent testing procedures. Through FOSTTA, the CIMP focuses on EPA's chemical program and works to develop a more coordinated effort involving Federal, state, and tribal agencies. P2 promotes the prevention ethic across society, helping to integrate P2 into mainstream environmental activities at the Federal level and among the states and tribes. TAP concentrates on chemical and prevention issues that are most relevant to the tribes, including lead control and abatement, tribal traditional/subsistence life ways, and hazard communications and outreach. FOSTTA's vision is to focus on major policy-level issues of importance to states and tribes, recruit more senior state and tribal leaders, increase outreach to all 50 states and some 560 Federally recognized tribes, and vigorously seek ways to engage the states and tribes in ongoing substantive discussions on complex and oftentimes controversial environmental issues.

The Environmental Council of the States (ECOS), in partnership with the National Tribal Environmental Council (NTEC) and EPA's Office of Pollution Prevention and Toxics (OPPT), are co-sponsoring the meetings. As part of a cooperative agreement, ECOS and NTEC facilitate ongoing efforts of the state and tribal leaders and OPPT to increase understanding and improve collaboration on toxic chemicals and pollution prevention issues, and to continue a dialogue on how federal environmental programs can best be implemented among the states, tribes, and EPA.

III. How Can I Request to Participate in this Meeting?

You may submit a request to participate in this meeting to the technical person listed under FOR FURTHER INFORMATION CONTACT. Do not submit any information in your request that is considered CBI. Requests to participate in the meeting, identified by docket ID number EPA-HQ-OPPT-2006-0929, must be received on or before December 7, 2006.

IV. The Meeting

In the interest of time and efficiency, the meetings are structured to provide maximum opportunity for state, tribal, and EPA participants to discuss items on the predetermined agenda. At the discretion of the chair, an effort will be made to accommodate participation by observers attending the proceedings. The FOSTTA representatives and EPA will discuss collaboration on all environmental protection and pollution prevention issues. The states and the tribes identified the following tentative agenda items:

1. Summary of selected presentations to be made at the Conference on Characterizing Chemicals in Commerce: Using Data on High Production Volume (HPV) Chemicals, which is taking place December 12-14, 2006; see http://www.NEWMOA.org/hpv for more information.

2. P2 Program Assessment Rating Tool (PART) Review.

3. P2 integration across EPA.

4. Prioritization of OPPTS work activities under the OPPTS Tribal Strategy.

List of Subjects

Environmental protection.

Dated: November 14, 2006.
Barbara A. Cunningham,
Director, Environmental Assistance Division, Office of Pollution Prevention and Toxics.

[FR Doc. 06-9274 Filed 11-16-06; 11:42 am]

BILLING CODE 6560-50-S